DEPARTMENT OF HOMELAND SECURITY

Coast Guard

33 CFR Part 165

[Docket No. USCG-2019-0667]

Safety Zones; Annual Events in the Captain of the Port Buffalo Zone

AGENCY: Coast Guard, DHS.

ACTION: Notice of enforcement of regulation.

SUMMARY: The Coast Guard will enforce the safety zone for the Head of the Cuyahoga Regatta located in the federal regulations for Annual Events in the Captain of the Port Buffalo zone. This action is necessary and intended to protect the safety of life and property on navigable waters prior to, during, and immediately after this event. During the enforcement period, no person or vessel may enter the safety zone without the permission of the Captain of the Port Buffalo.

DATES: The regulations in 33 CFR 165.939(d)(3) will be enforced from 7 a.m. through 5 p.m. on September 21, 2019.

FOR FURTHER INFORMATION CONTACT: If you have questions about this notice of enforcement, contact LT William Fitzgerald, Chief of Waterways Management, U.S. Coast Guard MSU Cleveland, via telephone at 216-937-0124 or email D09-SMB-MSUCleveland-WWM@uscg.mil.

SUPPLEMENTARY INFORMATION: The Coast Guard will enforce the safety zone for the Head of the Cuyahoga Regatta as listed in 33 CFR 165.939(d)(3) from 7 a.m. through 5 p.m. on September 21, 2019.

Pursuant to 33 CFR 165.23, entry into, transiting, or anchoring within the safety zones during an enforcement period is prohibited unless authorized by the Captain of the Port Buffalo or a designated representative. Those seeking permission to enter the safety zones may request permission from the Captain of Port Buffalo via channel 16, VHF-FM. Vessels and persons granted permission to enter the safety zones shall obey the directions of the Captain of the Port Buffalo or a designated representative. While within a safety zone, all vessels shall operate at the minimum speed necessary to maintain a safe course.

This notice of enforcement is issued under authority of 33 CFR 165.939 and 5 U.S.C. 552 (a). In addition to this notice of enforcement in the Federal Register, the Coast Guard will provide the maritime community with advance notification of this enforcement period via Broadcast Notice to Mariners or Local Notice to Mariners. If the Captain of the Port Buffalo determines that the safety zone need not be enforced for the full duration stated in this notice she may use a Broadcast Notice to Mariners to grant general permission to enter the respective safety zone.

Dated: August 29, 2019.
L.M. Littlejohn,
Captain, U.S. Coast Guard, Captain of the Port Buffalo.

[FR Doc. 2019-19946 Filed 9-16-19; 8:45 am]

BILLING CODE 9110-04-P